DEPARTMENT OF THE TREASURY

Privacy Act of 1974; Treasury/United States Mint .013—United States Mint National Electronic Incident Reporting System of Records

AGENCY: United States Mint, Treasury.

ACTION: Notice of Proposed New System of Records

SUMMARY: In accordance with the requirements of the Privacy Act of 1974, as amended, 5 U.S.C. 552a, the Department of the Treasury (“Treasury”) and the United States Mint proposes to establish a new system of records entitled, “Treasury/United States Mint .013—United States Mint National Electronic Incident Reporting System of Records.”

DATES: Comments must be received no later than September 3, 2013. The proposed new system of records will become effective September 10, 2013 unless comments are received that would result in a contrary determination.

ADDRESSES: Comments should be sent to the Disclosure Officer, United States Mint, 801 9th Street NW., Washington, DC 20220, Attention: Privacy Act Systems of Record. Comments may be faxed to (202) 756-6153, or emailed to kmitchell@usmint.treas.gov. Comments will be made available for public inspection upon written request. The United States Mint will make such comments available for public inspection and copying at the above listed location, on official business days between the hours of 9 a.m. and 5 p.m. Eastern Standard Time. Persons wishing to inspect the comments submitted must request an appointment by telephoning (202) 354-7600. All comments received, including attachments and other supporting materials, are part of the public record and subject to public disclosure. You should submit only information that you wish to make available publicly.

FOR FURTHER INFORMATION CONTACT: For general questions and privacy issues, please contact Kathleen Saunders-Mitchell, Disclosure Officer, (202) 354-7600, United States Mint, 801 9th Street NW., Washington, DC 20220.

SUPPLEMENTARY INFORMATION: Pursuant to the Privacy Act of 1974, as amended, 5 U.S.C. 552a, Treasury and the United States Mint proposes to establish a new system of records entitled, “Treasury/United States Mint .013—United States Mint National Electronic Incident Reporting System of Records.”

The United States Mint is establishing the United States Mint National Electronic Incident Reporting System of Records to enhance the incident management capabilities of the United States Mint Police. The system will be a centrally managed electronic database and workflow system that will support the collection, management, and sharing of information regarding reported incidents on or related to United States Mint property; property for which the United States Mint shares jurisdiction through a Cooperative Agreement, Memorandum of Understanding or other arrangement; or property or assets under United States Mint custody or control. It is intended to be usable by all United States Mint Police Officers in accordance with applicable procedures, improve data management and security, and provide a tracking system to notify supervisors of case status.

While the system is generally organized by incident and not by individual, it contains personal information on individuals searchable by individual name or other personal identifier. Information in the system is expected to include some or all of the following: Individual names, addresses, phone numbers, dates of birth, driver's license numbers, social security numbers, license plate numbers, medical information (typically in the case of accidents or injuries), investigation information, property descriptions, vehicle identifying information and physical descriptions. Information collected is protected throughout the life cycle of the system.

All information about an individual provided to the United States Mint Police that becomes part of this system of records in connection with incidents on or related to the following will be subject to the Privacy Act and to the Privacy Act exceptions and routine uses applicable to the data: United States Mint property; property for which the United States Mint Police share jurisdiction (through a Cooperative Agreement, Memorandum of Understanding or other arrangement); or property or assets under United States Mint custody or control.

The individuals who will have access to the system include authorized employees and contractors working for the United States Mint who have undergone security background checks, have Privacy Act clauses in their contracts, and have signed nondisclosure agreements with the United States Mint. The program office and system owner will be responsible for assuring proper use of the data contained in the system. Paper records are stored in secured filing cabinets with access only by authorized personnel. Electronic records are stored in secured systems subject to access controls in accordance with Department of the Treasury and United States Mint policies and procedures. Access to electronic records is restricted to authorized personnel, and is subject to multiple controls including an access approval process, unique user identifier, user authentication and account management, and password management.

Authority for this system derives from 40 U.S.C. 1315, 31 U.S.C. 321, 31 U.S.C. 5141 (note), and Treasury Order 101-33 (March 30, 2010). Below is the description of the Treasury/United States Mint .013—United States Mint National Electronic Incident Reporting System of Records. In accordance with 5 U.S.C. 552a(r), Treasury has provided a report of this system of records to the Office of Management and Budget and to Congress.

Dated: July 15, 2013.
Helen Goff Foster
Deputy Assistant Secretary for Privacy, Transparency and Records designee.

Treasury/United States Mint .013

System name:

United States Mint National Electronic Incident Reporting System of Records.

System location:

United States Mint, 801 9th Street NW., Washington, DC 20220.

Categories of individuals covered by the system:

Employees, contractors, visitors and other members of the general public involved in incidents on or related to United States Mint property; property for which the United States Mint Police share jurisdiction through a Cooperative Agreement, Memorandum of Understanding or other arrangement; or property or assets under United States Mint custody or control.

Categories of records in the system:

Information in the system is expected to include some or all of the following:

• individual names,

• addresses,

• phone numbers,

• dates of birth,

• driver's license numbers,

• social security numbers,

• license plate numbers,

• medical information (typically in the case of accidents or injuries),

• investigation information,

• property descriptions,

• vehicle identifying information and physical descriptions.

Authority for maintenance of the system:

40 U.S.C. 1315; 31 U.S.C. 321; 31 U.S.C. 5141 (note); Treasury Order 101-33 (March 30, 2010).

Purpose(s):

The purpose of this system is to enhance the incident management capabilities of the United States Mint Police. This is a centrally managed electronic database and workflow system that will: Support the collection, management, and sharing of information regarding reported incidents on or related to United States Mint property; property for which the United States Mint shares jurisdiction through a Cooperative Agreement, Memorandum of Understanding or other arrangement; or property or assets under United States Mint custody or control. It is intended to be usable by all United States Mint Police Officers in accordance with applicable procedures, improve data management and security, and provide a tracking system to notify supervisors of case status.

Routine uses of records maintained in the system, including categories of users and the purpose of such uses:

In addition to those disclosures generally permitted under 5 U.S.C. 552a(b) of the Privacy Act, all or a portion of the records or information contained in this system may be disclosed outside Treasury as a routine use pursuant 5 U.S.C. 552a(b)(3) as follows:

1. Appropriate federal, state, local or foreign agencies responsible for investigating or prosecuting the violations of, or for enforcing or implementing, a statute, rule, regulation, order or license;

2. A federal, state, or local agency that has requested information relevant to or necessary to the requesting agency's or the bureau's hiring or retention of an employee, or issuance of security clearance, license, contract, grant or other benefit;

3. A court, magistrate, or administrative tribunal in the course of presenting evidence, including disclosures to opposing counsel or witnesses in the course of civil discovery, litigation, or settlement negotiations; in response to a court-ordered subpoena; or in connection with criminal law proceedings;

4. A Congressional office in response to an inquiry made at the request of the individual to whom the record pertains;

5. The news media at the Department of Justice's direction or approval, in accordance with guidelines contained in 28 CFR 50.02 which relate to an agency's functions relating to civil and criminal proceedings;

6. Third parties during the course of an authorized criminal or administrative investigation;

7. Accounting offices, managers, supervisors and government officials pertaining to cash receivables and debts owed to the Federal Government;

8. Appropriate agencies, entities, and persons when (a) the United States Mint suspects or has confirmed that the security, confidentiality or availability of information in the system of records has been compromised; (b) the United States Mint has determined that, as a result of the suspected or confirmed compromise, there is a risk of harm to economic or property interests, identity theft or fraud, or harm to the security or integrity of this system or other systems or programs (whether maintained by the United States Mint or another agency or entity) that rely on the compromised information; and (c) the disclosure made to such agencies, entities, and persons is reasonably necessary to assist in connection with the United States Mint's efforts to respond to the suspected or confirmed compromise and prevent, minimize, or remedy such harm.

Policies and practices for storing, retrieving, accessing, retaining, and disposing of records in the system:

Storage:

Paper documents and electronic records.

Retrievability:

Records may be retrieved by name or an identifier, including social security number and driver's license number.

Safeguards:

Paper records are stored in secured filing cabinets with access only by authorized personnel. Electronic records are stored in secured systems subject to access controls in accordance with Treasury and United States Mint policies and procedures. Access to electronic records is restricted to authorized personnel, and is subject to multiple controls including an access approval process, unique user identifier, user authentication and account management, and password management.

Retention and disposal:

Records are maintained and disposed of in accordance with National Archives and Records Administration (NARA) regulations, and NARA-approved records retention schedules.

System manager and address:

Chief, Policy and Training Branch, United States Mint Police, United States Mint, 801 9th Street NW., Washington, DC 20220.

Notification procedure:

Individuals wishing to be notified if they are currently named in this system of records, seeking access to any record contained in this system of records, or seeking to contest its content, may inquire in writing in accordance with instructions appearing at 31 CFR part 1, subpart C, appendix H. Requests for information and specific guidance on where to send requests for records may be addressed to: Disclosure Officer, United States Mint, 801 9th Street NW., Washington, DC 20220.

When seeking records about yourself from this system of records, you must first verify your identity by providing at least one of the following: (a) United States Federal employee identification; (b) driver's license; (c) or other official document. You must provide your full name, current address and date of birth. You must sign your request, and your signature must either be notarized or submitted under 28 U.S.C. 1746, a law that permits statements to be made under penalty of perjury as a substitute for notarization. In addition you should provide the following:

• An explanation of why you believe the United States Mint would have information on you;

• Specify when you believe the records would have been created;

• Provide any other information that will help determine the location of responsive records; and

• If your request is seeking records pertaining to another living individual, you must include a statement from that individual certifying his or her agreement for you to access his/her records.

Without this bulleted information the United States Mint may not be able to conduct an effective search, and your request may be denied due to lack of specificity or lack of compliance with applicable regulations.

Record access procedures:

See “Notification procedure” above.

Contesting record procedures:

See “Notification procedure” above.

Record source categories:

Records are obtained from employees, contractors, visitors, and other members of the general public involved in incidents on or related to: United States Mint property; property for which the United States Mint Police share jurisdiction through a Cooperative Agreement, Memorandum of Understanding or other arrangement; or property or assets under United States Mint custody or control. Sources may also include the National Crime Information Center database, Department of the Treasury's Office of Inspector General, and other federal, state or local law enforcement agencies conducting investigations that they or the United States Mint initiate.

Exemptions claimed for the system:

None.

[FR Doc. 2013-18447 Filed 7-31-13; 8:45 am]

BILLING CODE 4810-37-P